DEPARTMENT OF THE INTERIOR

National Park Service

[NPS-NRSS-BRD-; PPWONRADB0PPMRSNR1Y.NM0000]; OMB Control Number 1024-0275]

Agency Information Collection Activities; Using Web and Mobile-Based Applications During NPS Citizen Science Events

AGENCY: National Park Service, Interior.

ACTION: Notice of information collection request; request for comment.

SUMMARY: In accordance with the Paperwork Reduction Act of 1995, we, the National Park Service (NPS) are proposing to renew an information collection with revisions.

DATES: Interested persons are invited to submit comments on or before January 22, 2019.

ADDRESSES: Send your comments on this Information Collection Request (ICR) by mail to Phadrea Ponds, Acting, Information Collection Clearance Officer, National Park Service, 1201 Oakridge Drive, Fort Collins, CO 80525 (mail); or phadrea_ponds@nps.gov (email). Please reference Information Collection Request 1024- 0275 in the subject line.

FOR FURTHER INFORMATION CONTACT: To request additional information about this IC, contact Kriston Barnes, Natural Resource Stewardship and Science Directorate, National Park Service, 1201 Oakridge Dr., Suite 200, Fort Collins, CO 80525 (mail); kriston_barnes@nps.gov (email); or: 970-658-6013 (phone).

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed information collection request (ICR) that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this IC. Before including your address, phone number, email address, or other personal identifying information in your comment, you should be aware that your entire comment—including your personal identifying information—may be made publicly available at any time. While you can ask us in your comment to withhold your personal identifying information from public review, we cannot guarantee that we will be able to do so.

Abstract: The NPS is authorized by the National Park Service Protection Interpretation and research in System (54 U.S.C. 100701) to collect this information. The NPS is requesting approval to use mobile and web-based applications (e.g., iNaturalist, eBird, etc) as a means to collect natural history observational information from park visitors during citizen science events. The information will be used to substantiate the occurrence of plant, wildlife and invertebrate species within NPS units during these events. By using citizen science applications, this information will be immediately available to all parks and others interested in species identification and advancing the knowledge of the natural world. Using mobile and web-based applications will enable parks to increase the number of natural history observation records that will contribute to greater understanding of the biodiversity within the park systems.

Title of Collection: Using web and mobile-based applications during NPS Citizen Science events.

OMB Control Number: 1024-0275.

Form Number: None.

Type of Review: Revision of a currently approved collection.

Respondents/Affected Public: General public, individual households, and non-federal scientists.

Total Estimated Number of Annual Respondents: 5,000.

Total Estimated Number of Annual Responses: 2,500 (2,000 public and 500 non-federal scientists.

Estimated Completion Time per Response: 50 minutes.

Total Estimated Number of Annual Burden Hours: 2,083 hours.

Respondent's Obligation: Voluntary.

Frequency of Collection: One time.

Total Estimated Annual Non-Hour Burden Cost: None.

An agency may not conduct or sponsor and a person is not required to respond to a collection of information unless it displays a currently valid OMB control number.

The authority for this action is the Paperwork Reduction Act of 1995 (44 U.S.C. 3501 et seq).

Phadrea D. Ponds,
Acting, NPS Information Collections Clearance Officer, National Park Service.

[FR Doc. 2018-25430 Filed 11-21-18; 8:45 am]

BILLING CODE 4312-52-P